NATIONAL SCIENCE FOUNDATION

Notice of Meeting for Advisory Committee for Engineering

ACTION: Request change in published advisory committee meeting dates and attendance type; corrected.

SUMMARY: The National Science Foundation (NSF) published a document in the Federal Register of March 12, 2020, concerning a 2-day, in-person advisory committee meeting for the Advisory Committee for Engineering. The advisory committee meeting will be reduced to a 1-day virtual session taking place on April 7, 2020.

Correction

In the Federal Register published March 12, 2020, in FR Doc. 2020-05032 (Filed 3-11-20), on page 14509-14510, third column, Date and Time Section, please change the date to April 7, 2020; 10:30 a.m.-4:30 p.m. (VIRTUAL).

For Further information, please contact Crystal Robinson, crrobins@nsf.gov or 703-292-8687.

Dated: March 16, 2020.
Crystal Robinson,
Committee Management Officer, National Science Foundation.

[FR Doc. 2020-05752 Filed 3-18-20; 8:45 am]

BILLING CODE 7555-01-P